DEPARTMENT OF JUSTICE

Antitrust Division; Notice Pursuant to the National Cooperative Research and Production Act of 1993—Telemanagement Forum

Notice is hereby given that, on July 22, 2009, pursuant to Section 6(a) of the National Cooperative Research and Production Act of 1993, 15 U.S.C. 4301 et seq. (“the Act”), TeleManagement Forum (“the Forum”) filed written notifications simultaneously with the Attorney General and the Federal Trade Commission disclosing changes in its membership. The notifications were filed for the purpose of extending the Act's provisions limiting the recovery of antitrust plaintiffs to actual damages under specified circumstances. Specifically, 2operate ApS, Aalborg Ce, DENMARK; Access Commerce, Labege Cedex, FRANCE; Active Broadband Networks, Waltham, MA; Aijeel Aijadeed for Technology, Tripoli, LIBYA; Almadar Aljadid, Tripoli, LIBYA; ATG, REPUBLIC OF IRELAND; Atheeb Intergraph Saudi Co., Riyadh, SAUDI ARABIA; Boeing Company, Auburn, WA; Bridgewater Systems Corporation, Ottawa, Ontario, CANADA; BSM impact Limited, Reading, Berkshire, UNITED KINGDOM; Buddha Software, Palo Alto, CA; CircuitVision, Tampa, FL; ClassTel, Moscow, RUSSIA; Cotton Management Consulting, Friday Harbor, WA; CYTA (Cyprus Telecommunications Authority), Nicosia, CYPRUS; Directorate for Emergency Communication, Oslo, NORWAY; DUXDILIGENS, S.A. DE C.V., Ciudad de Mexico, Distrito Federal, MEXICO; EHF Consultoria, Santa Rita do Sapucai, MG, BRAZIL; EJADA, Riyadh, SAUDI ARABIA; EMGS Group, Riyadh, SAUDI ARABIA; Etiya Information Technologies, Kustepe Sisli, Istanbul, TURKEY; FTS, Herzliya, ISRAEL; Fundação Para Inovações Tecnologicas FITec, Recife, PE, BRAZIL; GenerationE Technologies, San Clemente, CA; GMS Consulting, Lisbon, PORTUGAL; Guavus, Inc., Sunnyvale, CA; Hollywood Mobile, Hollywood, CA; ICCE Systems, Cary, NC; IDS Scheer AG, Saarbrucken, GERMANY; iLink Systems, Redmond, WA; Incognito Software, Inc., Vancouver, British Colombia, CANADA; Inswitch Solutions, Miami, FL; IPLAN Networks, Buenos Aires, ARGENTINA; IXIA, Calabasa, ROMANIA; JSMN Inc, Cobh, Co. Cork, REPUBLIC OF IRELAND; Kara Consulting, ICT Solutions, Istanbul, TURKEY; Kron Telekomunikasyon A.S., Kavacik Istanbul, TURKEY; Libya for Telecom and Technology, Tripoli, LIBYA; Libyan International Telecommunication Company, Tripoli, LIBYA; Libyan Post, Telecommunication and Information Technology Co., Zawia St., Tripoli, LIBYA; Libyana for Mobile Phones, Tripoli, LIBYA; Macquarie Telecom, Pty. Ltd., Sydney, NSW, AUSTRALIA; Mint Systems Limited, Brighton, UNITED KINDGOM; Mobitel, d.d., Ljubljana, SLOVENIA; Multimedios Redes, Monterrey, MEXICO; Neoris, San Pedro Garza Garcia, MEXICO; Netezza Corporation, Marlborough, MA; Netformx, Inc., Santa Clara, CA; NetXForge, Amsterdam, THE NETHERLANDS; NORDUnet A/S, Kastrup, DENMARK; N-Pulse AG, Heppenheim, GERMANY; NuaTel, Cork, IRELAND; Objective Technologies SA, Athens, GREECE; Peoples Friendship University of Russia, Moscow, RUSSIA; Platinion GmbH, Koln, GERMANY; PT Bakrie Telecom, Jakarta, Selatan, INDONESIA; Revenue Assurance Consulting, Borehamwood, Hertfordshire, UNITED KINGDOM; Scartel Star Lab Ltd., St. Petersburg, RUSSIA; Seavus AS, Malmo, SWEDEN; Singer TC GmbH, Duesseldorf, GERMANY; SkyTerra Communications, Reston, VA; Smartlabs, Moscow, RUSSIA; Specinova Sistemi d.o.o., Ljubljana, SLOVENIA; Striata (Australia) Pty Ltd, Sydney, NSW, AUSTRALIA; Suntech Intelligent Solutions, Florianopolis, Santa Catarina, BRAZIL; Taseon, San Jose, CA; TDS Telecom, Chicago, IL; Tejas Networks Ltd, Bangalore, INDIA; The Business Realignment Company Ltd, Reading, Berkshire, UNITED KINGDOM; The Value Management Company, Caguas, PUERTO RICO; TouK sp. z o.o., Warszawa, POLAND; TRA, Manama, BAHRAIN; Transverse, Austin, TX; TTNet A.S. (Turkish TelLekom), Sisli/ISTANBUL, TURKEY; Twinsec GmbH, Koln, GERMANY; University of Deusto—Deusto Technology Foundation, Bilbao, SPAIN; University of Stuttgart, Stuttgart, GERMANY; VOIPFUTURE, Hamburg, GERMANY; Wataniya Télécom Algérie S.P.A, Alger, ALGERIA, have been added as parties to this venture.

Also, 3G CLUB (Communication Leaders United Board), Taipei, TAIWAN; Acuma Solutions Limited, Manchester, UNITED KINGDOM; Adveotnet, Inc., Pleasanton, CA; Ahaluna, Rome, ITALY; Anglo African Outsourcing Ltd, Quatre Bornes, Plaine Wilhems, MAURITIUS; Asidua Limited, Belfast, UNITED KINGDOM; Auspice Corporation, Waltham, MA; Axiom Systems Limited, Readinq, Berkshire, UNITED KINGDOH; Bakcell LID, Baku, AZERBAIJAN; BEA Systems, Inc, Carmel Valley, CA; Beshara Group, Salmiyah, KUWAIT; Business Consulting Network, Santiago, CHILE; Cable & Wireless, Bracknell, Berkshire, UNITED KINGDOM; Central Research Instit. of Electrical Power Industry, Komae-Shi, Tokyo, JAPAN; Ceon Corporation, Redwood, CA; Codecentric GmbH, Solingen, GERMANY; CommProve Ltd, Dublin, REPUBLIC OF IRELAND; CTI—Communications. Technology. Innovations, Moscow, RUSSIA; CyberAccess, Inc., Chagrin Falls, OH; DataSynapse Inc., New York, NY; Datentechnik Austria GmbH & Co KG, Wien, AUSTRIA; EMBARQ, Overland Park, KS; Emnico Technologies Ltd, Westlea, Swindon, UNITED KINGDOM; Enterprise Architecture Consulting, Stadhampton, Oxfordshire, UNITED KINGDOM; Evidian, Los Clayes Sous Bois, FRANCE; FLAG Telecom, West Drayton, Middlesex, UNITED KINGDOM; Forthnet S.A., Kallithea, Attica, GREECE; Fusion Business Solutions, Hounslow, Middlesex, UNITED KINGDOM; Globus Consulting, Javea, Alicante, SPAIN; Grant Thornton Consulting Company Limited, Bangkok, THAILAND; Gridpoint Systems, Ottawa, Ontario, CANADA; GTA Consulting, Outremont, Quebec, CANADA; HTK Ltd, Ipswich, UNITED KINGDOM; lBS Consulting Group, Philadelphia, PA; Icesolutions, Ljubljana, SLOVENIA; IneoQuest Technologies, Inc, Mansfield, MA; Infotech Enterprises Europe, London, UNITED KINGDOM; Ingenium Technology, Monza, Milano, ITALY; Intec Telecom Systems PLC, Woking, Surrey, UNITED KINGDOM; Iowa Communications Network, Des Moines, IA; iPass, Redwood Shores, CA; Iptivia, New York, NY; Ixonos Plc, Helsinki, FINLAND; Japan Cable and Telecommunications Association, Nishiotanda, Shinagawa-ku, Tokyo, JAPAN; Jet Infosystems, Moscow, RUSSIA; JSC “IPNet”, Moscow, RUSSIA; Kentrox, Inc., Hillsboro, OR; Kornel Terplan, Hackensack, NJ; Men & Mice, Reykjavik, Iceland; Microtest Education Center, Moscow, RUSSIA; Neptuny, Milan, ITALY; New Generation Operations, London, England, UNITED KINGDOM; Oefeg, Wien, AUSTRIA; Omega—Reason Ltd., Islikon, Zurich, SWITZERLAND; Oy Swot Consulting Finland Ltd, Tampere, FINLAND; Packet Design Inc., Palo Alto, CA; PrismTech, Gateshead, Tyne & Wear, UNITED KINGDOM; Probity Consulting Ltd., Pretoria, Gauteng, SOUTH AFRICA; Psytechnics, Ipswich, Suffolk, UNITED KINGDOM; PT Excelcomindo Pratama Tbk, Jakarta, INDONESIA; RateIntegration, Durham, NC; Redline Communications, Inc., Markham, Ontario, CANADA; Sapient GmbH, Dusseldorf, NRW, Germany; Satorai Solutions, Inc., Arlington, VA; Sequoia Telecom Associates, San Rafael, CA; Sheerscape Inc, Austin, TX; Signiant, Inc., Burlington, MA; SNAP Solutions (M) Sdn Bhd, Kuala Lumpur, MALAYSIA; Steria Mummert Consulting AG, Langen, Hessen, GERMANY; Summa Telecom, Moscow, RUSSIA; Teleca Ltd, Didsbury, Manchester, UNITED KINGDOM; TelecomAdvisors International S.A., Panama City, PANAMA; Telelogic, New York, NY, have withdrawn as parties to this venture.

The following members have changed their names: Sunrise Telecom srl to Accanto Systems; Nordisk Mobiltelefon Sverige AB to AINMT Sverige AB; Sales Technologies to Aldous Limited; Technology Research Institute (TRI) to Aijeel aljadeed for Technology; Boeing to Boeing Company; Capgemini Telecom & Media to Capgemini Service (TME-GSA); Hong Kong CSL Limited to CSL Limited; auSystems Sweden South to Cybercom Sweden South; UNE EPM Telecomunicaciones to EPM Telecomunicaciones S.A. E.S.P; Tolmen, LLc to ICCE Systems; BearingPoint INFONOVA GmbH to Infonova; Iskratel Telekomunikacijski sistemi, d.o.o. to Iskratel, d.o.o., Kranj; LogicaCMG to Logica; Proforma Corporation to Metastorm; Ukrainian Mobile Communications UMC to MTS-Ukraine (UMC); Cadence LLC to Network Cadence; Andrew Network Solutions to Omnix Software ltd; RRD—Reti Radiotelevisive Digitali spa to RRD SRL-Reti Radiotelevisive Digitali Srl; Stratecast Partners to Stratecast—A division of Frost & Sullivan; Superna Business Consulting Inc to Superna Analytics, Inc.; Lifetree Convergence Ltd to Tecnotree; Tektronix to Tektronix Communications; TeliaSonera to TeliaSonera AB; TietoEnator Oyj to Tieto; Slovak telecom, a.s. to T-Slovak Telekom, a.s.; TeleSciences, Inc. to Ventraq, Inc.; Q/P Management Group of Canada to Woodward Systems Inc.

The following members have changed their addresses: Applied Broadband, Inc. to Boulder, CO; Atos Origin to Zurich, SWITZERLAND; Bell Canada to Montreal, Quebec, CANADA; Kyak Systems Ltd to London, UNITED KINGDOM; Toshiba Solutions Corporation to Minato-ku, Tokyo, JAPAN; Wisdom Networks Co.,Ltd. to Chiyoda-ku, Tokyo, JAPAN.

No other changes have been made in either the membership or planned activity of the group research project. Membership in this group research project remains open, and the Forum intends to file additional written notifications disclosing all changes in membership.

On October 21, 1988, the Forum filed its original notification pursuant to Section 6(a) of the Act. The Department of Justice published a notice in the Federal Register pursuant to Section 6(b) of the Act on December 8, 1988 (53 FR 49615).

The last notification was filed with the Department on January 16, 2009. A notice was published in the Federal Register pursuant to Section 6(b) of the Act on March 26, 2009 (74 FR 13229).

Patricia A. Brink,
Deputy Director of Operations, Antitrust Division.

[FR Doc. E9-22318 Filed 9-16-09; 8:45 am]

BILLING CODE 4410-11-M